Title 3—

The President

Proclamation 10050 of June 12, 2020

Flag Day and National Flag Week, 2020

By the President of the United States of America

A Proclamation

On Flag Day and throughout National Flag Week, we pay tribute to the American flag, the most recognizable symbol of the principles for which our Republic stands. For more than 200 years, the Stars and Stripes has represented liberty, justice, and the rule of law. Recently, as our Nation has come together to respond to the coronavirus pandemic, our flag has been a reminder of the courage, tenacity, and loyalty that define the indomitable American spirit.

Our great flag causes us to reflect humbly on the immeasurable price that has been paid to keep it “so gallantly streaming.” Throughout our Nation's history, proud patriots have nobly answered the call of duty when our country needed them most. The Star Spangled Banner serves as an everlasting remembrance of the sacrifices heroes of every generation have made in conflicts from the Revolutionary War to the wars in Iraq and Afghanistan. Our flag ensures that we never forget the incredible sacrifices our men and women in uniform have made to defend our liberty and way of life.

This year, Old Glory has waved over millions of brave Americans fighting the invisible enemy, often at risk to their personal health and wellbeing. Throughout the coronavirus pandemic, healthcare professionals have treated and cared for those sickened by the virus, and countless American patriots have provided critical goods and services to their fellow citizens in these uncertain times. These dedicated individuals have risen to the challenge, meeting the virus on the frontlines with the same conviction and unwavering determination that has empowered our Nation to overcome previous trials. Just as we prevailed in those struggles, we will emerge victorious against this new enemy and again raise our flag in triumph.

The American flag represents the unity of our country and its people. No matter what may divide us, Old Glory should be revered and cherished, as a symbol of all that makes America the greatest country in the world. As we honor our beautiful flag on this day and throughout this week, let us vow never to forget the tremendous sacrifices made by patriots from generation to generation to ensure that the red, white, and blue continues to fly high and free. Today, and every day, I am proud to join my fellow Americans in standing tall and saluting our great American flag.

To commemorate the adoption of our flag, the Congress, by joint resolution approved August 3, 1949, as amended (63 Stat. 492), designated June 14 of each year as “Flag Day” and requested that the President issue an annual proclamation calling for its observance and for the display of the flag of the United States on all Federal Government buildings. The Congress requested, by joint resolution approved June 9, 1966, as amended (80 Stat. 194), that the President issue annually a proclamation designating the week in which June 14 occurs as “National Flag Week” and calling on all citizens of the United States to display the flag during that week.

NOW, THEREFORE, I, DONALD J. TRUMP, President of the United States of America, do hereby proclaim June 14, 2020, as Flag Day, and the week starting June 14, 2020, as National Flag Week. I direct the appropriate officials to display the flag on all Federal Government buildings during this week, and I urge all Americans to observe Flag Day and National Flag Week by displaying the flag. I encourage the people of the United States to observe with pride and all due ceremony those days from Flag Day through Independence Day, set aside by the Congress (89 Stat. 211), as a time to honor America, to celebrate our heritage in public gatherings and activities, and to publicly recite the Pledge of Allegiance to the Flag of the United States of America.

IN WITNESS WHEREOF, I have hereunto set my hand this twelfth day of June, in the year of our Lord two thousand twenty, and of the Independence of the United States of America the two hundred and forty-fourth.

[FR Doc. 2020-13177

Filed 6-16-20; 8:45 am]

Billing code 3295-F0-P